ENVIRONMENTAL PROTECTION AGENCY

[EPA-HQ-OPPT-2015-0503; FRL-9934-96]

Certain New Chemicals; Receipt and Status Information for August 2015

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from August 1, 2015 to August 31, 2015.

DATES: Comments identified by the specific PMN number or TME number, must be received on or before November 23, 2015.

ADDRESSES: Submit your comments, identified by docket identification (ID) number EPA-HQ-OPPT-2015-0183, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, IMD (7407M), Office of Pollution Prevention and Toxics, Environmental Protection Agency, 1200 Pennsylvania Ave. NW., Washington, DC 20460-0001; telephone number: 202-564-8593; email address: Rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. What action is the agency taking?

This document provides receipt and status reports, which cover the period from August 2, 2015 to August 31, 2015, and consists of the PMNs and TMEs both pending and/or expired, and the NOCs to manufacture a new chemical that the Agency has received under TSCA section 5 during this time period.

III. What is the agency's authority for taking this action?

Under TSCA, 15 U.S.C. 2601 et seq., EPA classifies a chemical substance as either an “existing” chemical or a “new” chemical. Any chemical substance that is not on EPA's, TSCA Inventory is classified as a “new chemical,” while those that are on the TSCA Inventory are classified as an “existing chemical.” For more information about the TSCA Inventory go to: http://www.epa.gov/opptintr/newchems/pubs/inventory.htm.

Anyone who plans to manufacture or import a new chemical substance for a non-exempt commercial purpose is required by TSCA section 5 to provide EPA with a PMN before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

As used in each of the tables, (S) indicates that the information in the table is the specific information provided by the submitter, and (G) indicates that the information in the table is generic information because the specific information provided by the submitter was claimed as CBI.

For the PMNs received by EPA during this period, Table 1 provides the following information (to the extent that such information is not claimed as CBI). The EPA case number assigned to the PMN, the date the PMN was received by EPA, the projected end date for EPA's review of the PMN, the submitting manufacturer/importer, the potential uses identified by the manufacturer/importer in the PMN, and the chemical identity.

Table 1—Status of the 45 PMNs Received From August 1, 2015 to August 31, 2015
Case No. | Received date | Projected end date for EPA review | Manufacturer importer | Use | Chemical
P-15-0666 | 8/4/2015 | 11/2/2015 | CBI | (G) Epoxy hardener | (G) Formaldehyde, polymer with aromatic diamine, 2-(chloromethyl)oxirane and phenol.
P-15-0667 | 8/4/2015 | 11/2/2015 | Fritz industries, Inc | (S) Oil field additive | (S) Poly[oxy(methyl-1,2-ethanediyl)], alpha-[2-[bis(phosphonomethyl)amino]methylethyl]-omega-[2-[bis(phosphonomethyl)amino]methylethoxy]-, sodium salt (1:4).
P-15-0669 | 8/4/2015 | 11/2/2015 | CBI | (S) Agricultural iron micronutrient | (G) Glycine, n,n′-alkyldiylbis-, reaction products with formaldehyde, iron chloride (fecl3) and phenol, potassium salts.
P-15-0670 | 8/4/2015 | 11/2/2015 | CBI | (G) Fluid Stabilizer | (S) 1,6-Hexanediamine, acetate (1:2).
P-15-0670 | 8/4/2015 | 11/2/2015 | CBI | (G) Fluid Stabilizer | (S) Ethanol, 2-[(2-aminoethyl)amino]-, acetate (1:2).
P-15-0670 | 8/4/2015 | 11/2/2015 | CBI | (G) Fluid Stabilizer | (S) 1,2-Cyclohexanediamine, acetate (1:2).
P-15-0670 | 8/4/2015 | 11/2/2015 | CBI | (G) Fluid Stabilizer | (S) 1,2-Ethanediamine, n1-(2-aminoethyl)-, acetate (1:3).
P-15-0670 | 8/4/2015 | 11/2/2015 | CBI | (G) Fluid Stabilizer | (S) 1,2-Ethanediamine, n1,n2-bis(2-aminoethyl)-, acetate (1:4).
P-15-0671 | 8/5/2015 | 11/3/2015 | Tri-State Asphalt, LLC | (S) Emulsifying agent used in the production of asphalt emulsions for “chipsealing” and other road maintenance techniques | (S) 9-Octadecen-1-amine, hydrochloride (1:1), (9Z).
P-15-0672 | 8/5/2015 | 11/3/2015 | CBI | (S) Filtration Media (not for drinking water) | (G) Carbon Nanotube.
P-15-0673 | 8/6/2015 | 11/4/2015 | CBI | (S) Modified urethane polymer used as a deflocculating and dispersing additive in industrial paints and coatings | (G) Modified Urethane Polymer.
P-15-0674 | 8/6/2015 | 11/4/2015 | Cardolite Corporation | (G) Cashew nutshell liquid based, epoxy hardener for Higher solids epoxy formulations | (G) Cashew nutshell liquid polymner with formaldehyde and amine.
P-15-0675 | 8/7/2015 | 11/5/2015 | CBI | (G) Reactive polyol in automotive coatings application | (G) Carbamate ester.
P-15-0676 | 8/7/2015 | 11/5/2015 | CBI | (G) Reactive polyol in automotive coatings application | (G) Carbamate ester.
P-15-0678 | 8/10/2015 | 11/8/2015 | CBI | (G) Industrial paper additive | (G) Metal salt of mineral acid, reaction products with alumina, aluminum hydroxide, aluminum hydroxide oxide (al(oh)o), silica, titanium oxide (tio2) and 3-(triethoxysilyl)-1-propanamine.
P-15-0679 | 8/10/2015 | 11/8/2015 | CBI | (G) Industrial paper additive | (G) Metal salt of mineral acid, reaction products with alumina, aluminum hydroxide, aluminum hydroxide oxide (al(oh)o), silica, titanium oxide (tio2) and 3-(triethoxysilyl)-n-[3-(triethoxysilyl)propyl]-1-propanamine.
P-15-0680 | 8/10/2015 | 11/8/2015 | CBI | (G) Ingredient in liquid paint coating | (G) Propenoic acid, alkyl ester, polymer with 1,3-cyclohexanedialkylamine, reaction products with oxirane(alkoxyalkyl).
P-15-0681 | 8/11/2015 | 11/9/2015 | CBI | (S) Modified urethane polymer used as a deflocculating and dispersing additive in industrial coatings | (G)Modified Urethane Polymer.
P-15-0682 | 8/11/2015 | 11/9/2015 | CBI | (G) Fluid loss control additive | (G) Acrylic-humic acid-based polymer.
P-15-0683 | 8/11/2015 | 11/9/2015 | CBI | (G) Demulsifier | (G) Silylated polyether.
P-15-0684 | 8/12/2015 | 11/10/2015 | Allnex USA Inc | (S) Protective general industrial metal coating resin | (G) Substituted alkenoic acid, alkyl ester, telomer with alkanethiol and oxiranylalkyl alkyl-alkenoatenoate.
P-15-0686 | 8/12/2015 | 11/10/2015 | Eden Innovations LLC | (G) Part C: As a concrete admixture, the liquid product containing Part C is mixed with cement, rock aggregates, water and other additives at a concrete mixing plant, usually for delivery by truck to a construction site. Future potential use as an additive for polymers and/or coatings | (G) Future potential use as an additive for polymers and/or coatings. (G) Part C.
P-15-0687 | 8/12/2015 | 11/10/2015 | CBI | (G) Adhesive for open non-descriptive use | (G) Polyester adduct.
P-15-0688 | 8/13/2015 | 11/11/2015 | CBI | (G) Ingredient for consumer products; dispersive use | (S) Ethyl tetrahydrofuran-2-carboxylate.
P-15-0689 | 8/17/2015 | 11/15/2015 | CBI | (S) Chemical Intermediate | (G) Vegetable Fatty Acid Alkyl Ester.
P-15-0690 | 8/17/2015 | 11/15/2015 | CBI | (S) Chemical Intermediate | (G) Vegetable Fatty Acid Alkyl Ester.
P-15-0691 | 8/17/2015 | 11/15/2015 | CBI | (G) Polymer backbone for further processing | (G) Polyaminoamide.
P-15-0692 | 8/17/2015 | 11/15/2015 | CBI | (G) Open non-dispersive use; dispersive use | (G) Fatty acid esters with polyol.
P-15-0693 | 8/17/2015 | 11/15/2015 | CBI | (G) Sheet moulding additive | (G) 1,2-Ethanediamine, n1-(2-aminoethyl)-, reaction products with polyethylenimine and polypropylene alkyol ethers.
P-15-0694 | 8/18/2015 | 11/16/2015 | CBI | (G) Epoxy Hardener | (G) Phenol, polymer with formaldehyde, glycidyl ether, polymers with aromatic diamine, reaction products with (alkoxymethyl)oxirane.
P-15-0695 | 8/18/2015 | 11/16/2015 | CBI | (G) Additive in oil and gas production | (G) Cocoamidoamine, methanesulfonates.
P-15-0696 | 8/19/2015 | 11/17/2015 | CBI | (G) Crosslinker for coatings | (G) Urethane Acrylate.
P-15-0697 | 8/19/2015 | 11/17/2015 | CBI | (S) Boron-free, ferrous corrosion inhibitor for water-based metalworking fluids | (G) Alkyl alkylenetriamine compd. with alkanol ethoxylate phosphate.
P-15-0698 | 8/20/2015 | 11/18/2015 | CBI | (S) Binder polymer for industrial coatings (focus: metal protection) | (G) Polymer of Aliphatic dicarboxylic acid, Alkanediol and Cycloaliphatic diol.
P-15-0700 | 8/20/2015 | 11/18/2015 | Bostik, Inc | (G) Adhesive | (G) Long chain oil, pre polymer with Methylenebis[isocyanatobenzene], oxepanone and hydroxy terminated triol.
P-15-0702 | 8/26/2015 | 11/24/2015 | CBI | (G) Additive, open, non-dispersive use | (G) Modified polyethyleneglycol diacrylate salt with acidic polyethylene ester.
P-15-0704 | 8/26/2015 | 11/24/2015 | Gelest | (S) Formation of specialty silicone Elastomers; research | (S) Siloxanes and silicones, di-me, [(butylethenylmethylsilyl)oxy]- and hydrogen-terminated.
P-15-0705 | 8/26/2015 | 11/24/2015 | CBI | (S) Alkylarylamine used as an additive and octane booster in aviation fuels | (G) Alkylarylamine.
P-15-0706 | 8/27/2015 | 11/25/2015 | CBI | (G) Ingredient for multipurpose exterior coatings | (G) Mixture of aliphatic N-alkyl ureas containing substituted cyclohexyl and terminal alkoxysilane groups.
P-15-0707 | 8/27/2015 | 11/25/2015 | CBI | (G) Ingredient for multipurpose exterior coatings | (G) Mixture of aliphatic N-alkyl ureas containing aspartic ester and terminal alkoxysilane groups.
P-15-0708 | 8/28/2015 | 11/26/2015 | CBI | (S) Production moisture curing PU hot melts (adhesive) | (G) Polyester Polymer of Aliphatic dicarboxylic acid, Alkanediol and Polyethylen glycol methylphosphonate.
P-15-0709 | 8/28/2015 | 11/26/2015 | CBI | (S) Cement particle dispersant in concrete mixtures | (G) Carboxylic acid polymer with sodium phosphinate ester with a-methyl- w-hydroxypoly (oxy-1,2-ethanediyl).
P-15-0710 | 8/28/2015 | 11/26/2015 | CBI | (S) Cement particle dispersant in concrete mixtures | (G) Carboxylic acid polymer ester with a-methyl-w-hydroxypoly (oxy-1,2-ethanediyl).
P-15-0711 | 8/29/2015 | 11/27/2015 | CBI | (G) Organic light-emitting diode material | (G) Amine-alkyl-polyaromatic hydrocarbon polymer.
P-15-0712 | 8/31/2015 | 11/29/2015 | CBI | (G) Material for highly dispersive use in consumer products | (G) Disubstituted cycloalkanol.

For the TMEs received by EPA during this period, Table 2 provides the following information (to the extent that such information is not claimed as CBI). The EPA case number assigned to the TME, the date the TME was received by EPA, the projected end date for EPA's review of the TME, the submitting manufacturer/importer, the potential uses identified by the manufacturer/importer in the TME, and the chemical identity.

Table 2—Status of the 2 TMEs Received From August 1, 2015 to August 31, 2015
Case No. | Received date | Projected end date for EPA review | Manufacturer importer | Use | Chemical
T-15-0015 | 8/17/2015 | 10/1/2015 | CBI | (S) Chemical Intermediate | (G) Vegetable Fatty Acid Alkyl Ester.
T-15-0016 | 8/17/2015 | 10/1/2015 | CBI | (S) Chemical Intermediate | (G) Vegetable Fatty Acid Alkyl Ester.

For the NOCs received by EPA during this period, Table 3 provides the following information (to the extent that such information is not claimed as CBI). The EPA case number assigned to the NOC, the date the NOC was received by EPA, the projected end date for EPA's review of the NOC, and chemical identity.

Table 3—Status of the 42 NOCs Received From August 1, 2015 to August 31, 2015
Case No. | Received date | Commencement date | Chemical
P-10-0237 | 8/31/2015 | 8/21/2015 | (S) 2-Propenenitrile polymer with 1,1′-[oxybis(2,1-ethanediyloxy)]bis[ethene], sapond., sodium salts.
P-12-0480 | 8/4/2015 | 7/15/2015 | (G) Alkyl maleimide substituted bicyclic olefin.
P-13-0180 | 8/5/2015 | 6/1/2015 | (G) Fatty acid amide.
P-13-0181 | 8/5/2015 | 6/1/2015 | (G) Fatty acid amide.
P-13-0595 | 8/17/2015 | 7/28/2015 | (G) Oxirane, alkyl-, polymer with oxirane, hydrogen sulfate, alkyl ethers, alkali metal salts.
P-13-0863 | 8/4/2015 | 7/24/2015 | (G) Polyamic acid.
J-14-0012 | 8/17/2015 | 3/4/2015 | (S) Trichoderma reesei for cellulose conversion.
J-14-0014 | 8/17/2015 | 2/19/2015 | (S) Trichoderma reesei for cellulose conversion.
J-14-0015 | 8/17/2015 | 2/25/2015 | (S) Trichoderma reesei for cellulose conversion.
P-14-0128 | 8/20/2015 | 8/1/2015 | (G) Alkyl methacrylate polymer with alkyl acrylate, bis(2,3-heteromonocyclicalkoxy) -2,2-dialkylpropane, vinyl aromatic, propenoic acid esters with c12-14-alkyloxy 1,2 alkyldiol, amine salts.
P-14-0132 | 8/31/2015 | 8/31/2015 | (S) Alkanes, c8-11-branched and linear.
P-14-0133 | 8/31/2015 | 8/31/2015 | (S) Alkanes, c9-12-branched and linear.
P-14-0134 | 8/31/2015 | 8/31/2015 | (S) Alkanes, c9-13 branched and linear.
P-14-0135 | 8/31/2015 | 8/31/2015 | (S) Alkanes, c10-13-branched and linear.
P-14-0397 | 8/17/2015 | 8/6/2015 | (S) Benzenepropanol, 1-benzoate.
P-14-0621 | 8/3/2015 | 7/13/2015 | (G) Alkanedioic anhydride, polymer with alkanediol and branched alcohol.
P-14-0817 | 8/11/2015 | 8/3/2015 | (S) 3-Hexenoic acid, cyclopropylmethyl ester.
J-15-0003 | 8/17/2015 | 6/11/2015 | (S) Trichoderma reesei for cellulose conversion.
J-15-0004 | 8/17/2015 | 6/6/2015 | (S) Trichoderma reesei for cellulose conversion.
J-15-0005 | 8/17/2015 | 6/3/2015 | (S) Trichoderma reesei for cellulose conversion.
J-15-0019 | 8/16/2015 | 7/22/2015 | (G) Organic acid producing organism.
P-15-0033 | 8/27/2015 | 8/10/2015 | (G) Alkyl and aryl-substituted polysiloxane.
P-15-0111 | 8/7/2015 | 8/4/2015 | (G) Fatty acids, tall-oil, reaction products with an ether and triethylenetetramine.
P-15-0166 | 8/7/2015 | 7/22/2015 | (G) Aromatic polyester resin.
P-15-0271 | 8/4/2015 | 7/28/2015 | (G) Urethane resin.
P-15-0274 | 8/7/2015 | 7/22/2015 | (G) Substituted polystyrene.
P-15-0283 | 8/25/2015 | 8/5/2015 | (S) Carbamic acid, n-octadecyl-,c,c'-[2,2-dimethyl-1-(1-methylethyl)-1,3-propanediyl]ester.
P-15-0290 | 8/27/2015 | 8/24/2015 | (G) 2-Oxepanone, polymer with 2,diisocyanato and alkyl ester imidazole-alkyamine-blocked.
P-15-0318 | 8/14/2015 | 8/11/2015 | (S) Benzene, 1,1′-(2,4-cyclopentadien-1-ylidenemethylene)bis-.
P-15-0354 | 8/12/2015 | 7/15/2015 | (G) Perfluoropolyether-block-polytetrafluoroethylene.
P-15-0356 | 8/11/2015 | 8/11/2015 | (S) 2-Propanol, 1,3-bis[4-[1-[4-[1-methyl-1-[4-(2-oxiranylmethoxy)phenyl]ethyl]phenyl]-1-[4-(2-oxiranylmethoxy)phenyl]ethyl]phenoxy]-.
P-15-0356 | 8/11/2015 | 8/11/2015 | (S) Oxirane, 2,2′-[[1-[4-[1-methyl-1-[4-(2-oxiranylmethoxy)phenyl]ethyl]phenyl]ethylidene]bis(4,1-phenyleneoxymethylene)]bis-.
P-15-0358 | 8/20/2015 | 8/6/2015 | (G) Oxepanone, polymers with 1,6-diisocyanatohexane trimer and 2-Hydroxyethyl acrylate.
P-15-0367 | 8/6/2015 | 8/5/2015 | (G) Cycloalkanediamine, polymer with 2,2′-[methylenebis(phenyleneoxymethylene)]bis[oxirane].
P-15-0374 | 8/26/2015 | 8/17/2015 | (G) Methacrylic copolymer with cyclic structure unit.
P-15-0378 | 8/31/2015 | 8/31/2015 | (G) Disubstituted, homopolymer, alkanoic acid-polyalkylene glycol ether with substituted alkane (3:1) reaction products-blocked.
P-15-0385 | 8/19/2015 | 7/20/2015 | (G) Hydrogenated oil.
P-15-0416 | 8/21/2015 | 7/30/2015 | (G) Aromatic isocyanate, polymer with aromatic diamine, alkyloxirane, alkyloxirane polymer with oxirane ether with alkyltriol (3:1), and oxirane.
P-15-0423 | 8/14/2015 | 7/24/2015 | (G) Polyurethane, (meth)acrylate blocked.
P-15-0460 | 8/20/2015 | 8/19/2015 | (G) Substituted alkanoic acid-, metal salt.
P-15-0461 | 8/24/2015 | 8/16/2015 | (G) Siloxanes and silicones, alkoxy me, polymers with me silsesquioxanes, alkoxy-terminated.

Authority: 15 U.S.C. 2601 et seq.

Dated: October 15, 2015.
Pamela S. Myrick,
Director, Information Management Division, Office of Pollution Prevention and Toxics.

[FR Doc. 2015-27031 Filed 10-22-15; 8:45 am]

BILLING CODE 6560-50-P